DEPARTMENT OF HOUSING AND URBAN DEVELOPMENT

[Docket No. FR-5130-N-12]

Privacy Act of 1974; New System of Records, Integrated Automated Travel System (IATS, H-18), HUD/CFO-04

AGENCY: Office of the Chief Information Officer, HUD.

ACTION: Establish a New Privacy Act System of Records.

SUMMARY: HUD proposes to establish a new record system to add to its inventory of systems of records subject to the Privacy Act of 1974 (5 U.S.C. 552a), as amended. The purpose of the proposed new system of records, identified as HUD/CFO-03, entitled Integrated Automated Travel System (IATS, H-18), is to produce tax reports and W2s for relocation travel disbursements.

DATES: Effective Date: This action will be effective without further notice on October 31, 2007 unless comments are received that would result in a contrary determination.

Comments Due Date: October 31, 2007.

ADDRESSES: Interested persons are invited to submit comments regarding this new system of records to the Rules Docket Clerk, Office of General Counsel, Department of Housing and Urban Development, 451 Seventh Street, SW., Room 10276, Washington, DC 20410-0500. Communications should refer to the above docket number and title. Facsimile (FAX) comments are not acceptable. A copy of each communication submitted will be available for public inspection and copying between 8 a.m. and 5 p.m. weekdays at the above address.

FOR FURTHER INFORMATION CONTACT: Departmental Privacy Act Officer, telephone number (202) 402-8036 or Gail B. Dise, Assistant Chief Financial Officer for Systems, telephone number (202) 402-3749. (These are not toll free numbers.)

SUPPLEMENTARY INFORMATION: Title 5 U.S.C. 552a(e)(4) and (11) provide that the public be afforded a 30-day period in which to comment on the new record system, and require published notice of the existence and characters of the system of records.

The new system report, as required by 5 U.S.C. 552a(r) of the Privacy Act was submitted to the Committee on Homeland Security and Governmental Affairs of the United States Senate, the Committee on Government Reform and Oversight of the House of Representatives, and the Office of Management and Budget (OMB) pursuant to paragraph 4c of Appendix I to OMB Circular No. A-130, Federal Agency Responsibilities for Maintaining Records about Individuals, dated June 25, 1993 (58 FR 36075, July 2, 1993).

Authority: 5 U.S.C. 552a.

Dated: September 21, 2007.
Walter S. Harris,
Deputy Chief Information Officer for Strategic Planning and Policy.

HUD/CFO-04

Name:

Integrated Automated Travel System (IATS, H-18).

System location:

CFO Accounting Center in Fort Worth, Texas.

Categories of individuals covered by the system:

HUD employees.

Categories of records in the system:

Disbursements. Travel Authorizations (origin and destination of relocation, authorized entitlements, dependent's names and dates of birth), payments made to individual (amount approved, taxes deducted, amount paid to employee, date of payment).

Authority for maintenance of the system:

Sec. 113 of the Budget and Accounting Act of 1950 31 U.S.C. 66a. (Pub. L. 81-784).

Purpose (s):

The purpose of the system of records is to record relocation disbursements in order to compute and record taxes and W2s.

Routine uses of records maintained in the system, including categories of users and the purposes of such uses.

In addition to those disclosures generally permitted under 5 U.S.C. 552a(b) of the Privacy Act, other routine uses are as follows:

The system is used to record all disbursements associated with an employee's relocation, for reporting purposes, to generate quarterly 941's and annual W-2's to IRS and the Social Security Administration.

Policies and practices for storing, retrieving, accessing, retaining, and disposing of records in the system: IATS is a stand alone system.

Electronic files are stored in the IATS database which is located on the Windows server in FT Worth, Texas. Hard copy files are stored in secure cabinets in the file room under lock and key within the Travel and Relocation Branch Office in Fort Worth, Texas.

Storage:

Each individual relocatee has a folder and there are hard copies of these documents in the folders which are stored in the secure cabinets in the file room under lock and key within the Travel and Relocation Branch Office in Fort Worth, Texas.

Retrievability:

Name, Social Security Number, Birth date, dependents' names and dates of Birth, marital status, spouse name, home address, home telephone, and personal email address.

Safeguards employed include:

Background screening, limited authorizations and access, with access limited to authorized personnel and technical restraints employed with regard to accessing the records; access to automated systems by authorized users by passwords.

Retention and disposal:

Are in accordance with GSA schedules of retention and disposal.

System Manager(s) and address:

Assistant Chief Financial Office for Systems, Office of the Chief Financial Officer, Department of Housing and Urban Development, 451 Seventh Street SW., Washington, DC 20410.

Notification procedure:

For information assistance, or inquiry about existence of records, contact the Privacy Act Officer, 451 Seventh Street, SW., Room 4178, Washington, DC 20410, in accordance with the procedures in 24 CFR part 16.

Record access procedures:

The Department's rules for providing access to records to the individual concerned appears in 24 CFR part 16. If additional information or assistance is required, contact the Privacy Act Officer at the Department of Housing and Urban Development (HUD), 451 Seventh Street, SW., Room 4178, Washington, DC 20410.

Contesting record procedures:

The procedures for requesting amendment or correction of records appear in 24 CFR part 16. If additional information is needed, contact:

(i) In relation to contesting contents of records, the Privacy Act Officer at HUD, 451 Seventh Street, SW., Room 4178, Washington, DC 20410; and

(ii) In relation to appeals of initial denials, HUD, Departmental Privacy Appeals Officer, Office of General Counsel, 451 Seventh Street, SW., Washington, DC 20410.

Record source categories:

Subject individuals; other individuals; financial institutions, private corporations or firms doing business with HUD; Federal agencies; HUD personnel.

Exemptions from certain provisions of the Act:

None.

[FR Doc. E7-19289 Filed 9-28-07; 8:45 am]

BILLING CODE 4210-67-P